FEDERAL MARITIME COMMISSION

Ocean Transportation Intermediary License Revocations

The Commission gives notice that the following Ocean Transportation Intermediary licenses have been revoked pursuant to section 19 of the Shipping Act of 1984 (46 U.S.C. 40101) effective on the date shown.

License No.: 1382NF.

Name: E.H. Harms U.S.A., Inc.

Address: 2809 Boston Street, Baltimore, MD 21224.

Date Revoked: April 27, 2013.

Reason: Failed to maintain valid bonds.

License No.: 015187N.

Name: Gage Shipping Lines, Ltd.

Address: 23 South Street, Baltimore, MD 21202.

Date Revoked: April 26, 2013.

Reason: Failed to maintain a valid bond.

License No.: 018442NF.

Name: AAC Perishables Logistics, Inc.

Address: 6300 NW 97th Avenue, Miami, FL 33178.

Date Revoked: April 22, 2013.

Reason: Voluntary Surrender of License.

License No.: 018640N.

Name: Welley Shipping USA, Inc.

Address: 17700 Castleton Street, Suite 469, City of Industry, CA 91748.

Date Revoked: April 19, 2013.

Reason: Failed to maintain a valid bond.

License No.: 019771F.

Name: InterStar Global Logistics, L.P.

Address: 5839 Bender Road, Humble, TX 77396.

Date Revoked: April 29, 2013.

Reason: Voluntary Surrender of License.

License No.: 021544NF.

Name: Dacon Logistics LLC dba Coda Forwarding.

Address: 31-U Mountain Blvd., Warren, NJ 07059.

Date Revoked: April 25, 2013.

Reason: Failed to maintain valid bonds.

License No.: 023274N.

Name: Nunez Shipping Inc.

Address: 1388 NW 29th Street, Miami, FL 33142.

Date Revoked: April 10, 2013.

Reason: Failed to maintain a valid bond.

James A. Nussbaumer,
Deputy Director, Bureau of Certification and Licensing.

[FR Doc. 2013-11607 Filed 5-15-13; 8:45 am]

BILLING CODE 6730-01-P